DEPARTMENT OF COMMERCE

Foreign-Trade Zones Board

[B-32-2019]

Foreign-Trade Zone (FTZ) 84—Harris County, Texas; Notification of Proposed Production Activity; Coreworks, LLC (Brazed Aluminum Heat Exchangers and Cryogenic Equipment); Katy, Texas

Coreworks, LLC (Coreworks) submitted a notification of proposed production activity to the FTZ Board for its facility in Katy, Texas. The notification conforming to the requirements of the regulations of the FTZ Board (15 CFR 400.22) was received on April 30, 2019.

The applicant indicates that it will be submitting a separate application for FTZ designation at the Coreworks facility under FTZ 84. The facility is used for the production of brazed aluminum heat exchangers and cryogenic equipment. Pursuant to 15 CFR 400.14(b), FTZ activity would be limited to the specific foreign-status materials and components and specific finished products described in the submitted notification (as described below) and subsequently authorized by the FTZ Board.

Production under FTZ procedures could exempt Coreworks from customs duty payments on the foreign-status components used in export production. On its domestic sales, for the foreign-status materials/components noted below, Coreworks would be able to choose the duty rates during customs entry procedures that apply to: Brazed aluminum heat exchangers; brazed aluminum heat exchanger parts; and, steel and aluminum cryogenic cold boxes (duty rate ranges from duty-free to 4.2%). Coreworks would be able to avoid duty on foreign-status components which become scrap/waste. Customs duties also could possibly be deferred or reduced on foreign-status production equipment.

The components and materials sourced from abroad include: Aluminum fin stock; hollow aluminum end bars for core blocks; custom-shape, alloy aluminum end bars for core blocks; aluminum tubing structural shapes and supports; aluminum parting sheets for cores; aluminum braze foils; aluminum header and nozzle pipes; aluminum flanges; stainless steel skid cold box heat exchanger piping; stainless steel skid cold box structures; stainless steel fittings; steel flanges; stainless steel threaded fittings; butt welded fittings; steel forged fittings; vacuum braze furnace vacuum pumps; induction and resistance vacuum braze furnaces; seals, gaskets, pumps, filters and condenser panels for vacuum braze furnaces; die stamping presses; steel process separator drums; and, steel process vessel columns (duty rate ranges from duty-free to 6.5%). The request indicates that certain materials/components are subject to special duties under Section 232 of the Trade Expansion Act of 1962 (Section 232) or Section 301 of the Trade Act of 1974 (Section 301), depending on the country of origin. The applicable Section 232 and Section 301 decisions require subject merchandise to be admitted to FTZs in privileged foreign status (19 CFR 146.41).

Public comment is invited from interested parties. Submissions shall be addressed to the Board's Executive Secretary and sent to: ftz@trade.gov. The closing period for their receipt is June 17, 2019.

A copy of the notification will be available for public inspection in the “Reading Room” section of the Board's website, which is accessible via www.trade.gov/ftz.

For further information, contact Elizabeth Whiteman at Elizabeth.Whiteman@trade.gov or (202) 482-0473.

Dated: May 3, 2019.
Andrew McGilvray,
Executive Secretary.

[FR Doc. 2019-09448 Filed 5-7-19; 8:45 am]

BILLING CODE 3510-DS-P